DEPARTMENT OF STATE

[Public Notice 11400]

Notice of Shipping Coordinating Committee Meeting in Preparation for International Maritime Organization MEPC 76 Meeting

The Department of State will conduct an open meeting of the Shipping Coordinating Committee at 10:00 a.m. on Thursday, June 3, 2021, by way of teleconference. The primary purpose of the meeting is to prepare for the seventy sixth session of the International Maritime Organization's (IMO) Marine Environment Protection Committee (MEPC 76) to be held virtually from Thursday, June 10, 2021 to Friday, June 11, 2021, and from Monday, June 14, 2021 to Thursday, June 17, 2021.

Members of the public may participate up to the capacity of the teleconference phone line, which will handle 500 participants. To access the teleconference line, participants should call (202) 475-4000 and use Participant Code: 138 541 34#.

The agenda items to be considered at the advisory committee mirror those to be considered at MEPC 76, and include:

—Adoption of the agenda

—Decisions of other bodies

—Consideration and adoption of amendments to mandatory instruments

—Harmful aquatic organisms in ballast water

—Air pollution prevention

—Energy efficiency of ships

—Reduction of GHG emissions from ships

—Follow-up work emanating from the Action Plan to address marine plastic litter from ships

—Pollution prevention and response

—Reports of other sub-committees

—Technical cooperation activities for the protection of the marine environment

—Work programme of the Committee and subsidiary bodies

—Any other business

—Consideration of the report of the Committee

Please note: the IMO may, on short notice, adjust the MEPC 76 agenda to accommodate the constraints associated with the virtual meeting format. Any changes to the agenda will be reported to those who RSVP and those in attendance at the meeting.

Those who plan to participate may contact the meeting coordinator, LT Jessica Anderson, by email at Jessica.P.Anderson@uscg.mil, by phone at (202) 372-1376, or in writing at 2703 Martin Luther King Jr. Ave. SE, Stop 7509, Washington DC 20593-7509. Members of the public needing reasonable accommodation should advise LT Anderson not later than May 27, 2021. Requests made after that date will be considered, but might not be possible to fulfill.

Additional information regarding this and other IMO public meetings may be found at: https://www.dco.uscg.mil/IMO.

Jeremy M. Greenwood,
Executive Secretary, Shipping Coordinating Committee, Office of Ocean and Polar Affairs, Department of State.

[FR Doc. 2021-07417 Filed 4-9-21; 8:45 am]

BILLING CODE 4710-09-P